DEPARTMENT OF THE INTERIOR

Fish and Wildlife Service

[FWS-R9-FHC-2009-N0082; 40120-1113-4044-D2-FY09]

Marine Mammal Protection Act; Stock Assessment Report

AGENCY: Fish and Wildlife Service, Interior.

ACTION: Notice of availability of draft revised marine mammal stock assessment reports for two stocks of West Indian manatee; request for comments.

SUMMARY: In accordance with the Marine Mammal Protection Act of 1972, as amended (MMPA), and its implementing regulations, we, the U.S. Fish and Wildlife Service (Service), have developed a draft revised marine mammal stock assessment report (SAR) for each of the two West Indian manatee stocks in the southeastern United States and Puerto Rico: The Florida manatee (Trichechus manatus latirostris) stock and the Puerto Rico stock of Antillean manatee (Trichechus manatus manatus). Both are available for public review and comment.

DATES: We must receive comments by September 10, 2009.

ADDRESSES: To obtain the SARs for either or both of the West Indian manatee subspecies, and to submit comments, see Document Availability and Public Comment, respectively, under SUPPLEMENTARY INFORMATION.

FOR FURTHER INFORMATION CONTACT: West Indian Manatee in Florida: Jim Valade, (904) 731-3336 (telephone) or northflorida@fws.gov (e-mail). West Indian Manatee in Puerto Rico: Carlos Diaz, (787) 851-7297 (telephone) or Carlos_Diaz@fws.gov (e-mail).

SUPPLEMENTARY INFORMATION:

Background

Under the MMPA (16 U.S.C. 1361 et seq.) and its implementing regulations in the Code of Federal Regulations (CFR) at 50 CFR part 18, we regulate the taking, possession, transportation, purchasing, selling, offering for sale, exporting, and importing of marine mammals. One of the MMPA's goals is to ensure that stocks of marine mammals occurring in waters under U.S. jurisdiction do not experience a level of human-caused mortality and serious injury that is likely to cause the stock to be reduced below its optimum sustainable population level (OSP). OSP is defined as “the number of animals which will result in the maximum productivity of the population or the species, keeping in mind the carrying capacity of the habitat and the health of the ecosystem of which they form a constituent element.”

To help accomplish the goal of maintaining marine mammal stocks at their OSPs, section 117 of the MMPA requires us and the National Marine Fisheries Service (NMFS) to prepare a SAR for each marine mammal stock that occurs in waters under U.S. jurisdiction. A SAR must be based on the best scientific information available; therefore, we prepare it in consultation with established regional scientific review groups. Each SAR must include: (1) A description of the stock and its geographic range; (2) a minimum population estimate, maximum net productivity rate, and current population trend; (3) an estimate of human-caused mortality and serious injury; (4) a description of commercial fishery interactions; (5) a categorization of the status of the stock; and (6) an estimate of the potential biological removal (PBR) level. The PBR is defined as “the maximum number of animals, not including natural mortalities, that may be removed from a marine mammal stock while allowing that stock to reach or maintain its OSP.” The PBR is the product of the minimum population estimate of the stock (Nmin); one-half the maximum theoretical or estimated net productivity rate of the stock at a small population size (Rmax); and a recovery factor (Fr) of between 0.1 and 1.0, which is intended to compensate for uncertainty and unknown estimation errors.

Section 117 of the MMPA also requires us and NMFS to review the SARs (a) at least annually for stocks that are specified as strategic stocks, (b) at least annually for stocks for which significant new information is available, and (c) at least once every 3 years for all other stocks.

A strategic stock is defined in the MMPA as a marine mammal stock (a) for which the level of direct human-caused mortality exceeds the PBR; (b) which, based on the best available scientific information, is declining and is likely to be listed as a threatened species under the Endangered Species Act of 1973, as amended (16 U.S.C. 1531 et seq.; ESA), within the foreseeable future; or (c) which is listed as a threatened or endangered species under the ESA, or is designated as depleted under the MMPA.

The following table summarizes the information we are now making available in the draft revised SARs for the Florida and Puerto Rico stocks of the West Indian manatee, listing each stock's Nmin, Rmax, Fr, PBR, annual estimated human-caused mortality and serious injury, and status. After consideration of any public comments we receive, we will revise the SARs for one or both subspecies, as appropriate. We will publish a notice of availability and summary of the final SARs, including responses to comments we receive.

Table 1—Summary: Draft Revised Stock Assessment Reports, West Indian Manatee
West Indian Manatee Stocks: | Nmin | Rmax | Fr | PBR | Annual estimated average human- caused mortality and serious injury (5-year average) | Stock status
Florida | 3,807 | 0.06 | 0.1 | 12 | 87 | Strategic
Puerto Rico | 72 | 0.04 | 0.1 | 0 | 2 | Strategic

Document Availability

Draft Revised SAR for West Indian Manatee in Florida

You may obtain a copy by any one of the following methods:

• Internet: http://www.fws.gov/northflorida.

• Write to or visit (during normal business hours) the Field Supervisor, U.S. Fish and Wildlife Service, Jacksonville Field Office, 7915 Baymeadows Way, Suite 200, Jacksonville, FL 32256-7517; telephone: (904) 731-3336.

Draft Revised SAR for West Indian Manatee in Puerto Rico

You may obtain a copy by any one of the following methods:

• Internet: http://www.fws.gov/caribbean/es/Endangered-Animals.html.

• Write to or visit (during normal business hours) the Field Supervisor, U.S. Fish and Wildlife Service, Caribbean Field Office, Carr 301, KM 5.1, BQ Corozo, or P.O Box 491, Boqueron, PR 00622; telephone: (787) 851-7297.

Public Comment

Draft Revised SAR for West Indian Manatee in Florida

You may submit a written comment by any one of the following methods:

• E-mail: northflorida@fws.gov.

• Mail or hand-delivery: Field Supervisor, Jacksonville Field Office (see address above).

• Fax: (904) 731-3045.

Draft Revised SAR for West Indian Manatee in Puerto Rico

You may submit a written comment by any one of the following methods:

• E-mail: Carlos_Diaz@fws.gov.

• Mail or hand-delivery: Field Supervisor, Caribbean Field Office (see address above).

• Fax: (787) 851-7440.

References

In accordance with the MMPA, we include in this notice a list of the information sources and public reports upon which we based the SARs.

Florida Manatee Stock:

Ackerman, B.B., S.D. Wright, R.K. Bonde, D.K. Odell, and D.J. Banowetz. 1995. Trends and patterns in mortality of manatees in Florida, 1974-1992. Pages 223-258 in T.J. O'Shea, B.B. Ackerman, and H.F. Percival, editors. Population Biology of the Florida Manatee. National Biological Service, Information and Technology Report No. 1. Washington, DC.

Beck, C.A. 2007a. USGS FISC Sirenia Project. Personal communication to Jim Valade, USFWS. Unpublished Manatee Individual Photo-Identification System (MIPS) data, number of manatees with entanglement-related scars, 1974 to 2007. Available from: USFWS Jacksonville Field Office, Jacksonville, FL 32256.

Beck, C.A. 2007b. USGS FISC Sirenia Project. Personal communication to Dawn Jennings, USFWS. Unpublished Manatee Individual Photo-Identification System (MIPS) data, records of identifiable manatees moving between management units, 1974 to 2007. Available from: USFWS Jacksonville Field Office, Jacksonville, FL 32256.

Beck, C.A. and N.B. Barros. 1991. The impact of debris on the Florida manatee. Marine Pollution Bulletin 22:508-510.

Beck, C.A. and L.W. Lefebvre. 1995. Are female manatees more vulnerable to entanglement in crab trap lines? Abstract. Eleventh Biennial Conference on the Biology of Marine Mammals, Orlando, FL. December 14-18, 1995.

Bonde, R.K., T.J. O'Shea, and C.A. Beck. 1983. Manual of procedures for the salvage and necropsy of carcasses of the West Indian manatee Trichechus manatus. NTIS PB83-255273. Springfield, VA. 175 pp.

Bowles, A.E., T. Yack, C. Alves, R. Anderson and N.M. Adimey. 2003. Experimental studies of manatee entanglement in crab traps. Abstract. Fifteenth Biennial Conference on the Biology of Marine Mammals, Greensboro, NC. December 14-19, 2003.

Bowles, A.E. 2000. Manatee behaviors in the presence of fishing gear: response to novelty and the potential for reducing gear interactions. Hubbs-Sea World Research Institute, San Diego, CA. Annual report to the U.S. Fish and Wildlife Service. 16+ pp.

Brooks, W.B. 1999. Manatees, monofilament, crab traps and management. Abstract. Thirteenth Biennial Conference on the Biology of Marine Mammals, Wailea, Maui, HI. November 28 to December 3, 1999.

Buergelt, C.D., R.K. Bonde, C.A. Beck, and T.J. O'Shea. 1984. Pathologic findings in manatees in Florida. Journal of the American Veterinary Medicine Association 11:1331-1334.

Craig, B.A. and J.E. Reynolds, III. 2004. Determination of manatee population trends along the Atlantic coast of Florida using a Bayesian approach with temperature-adjusted aerial survey data. Marine Mammal Science 20(3):386-400.

Deutsch, C.J., B.B. Ackerman, T.D. Pitchford, and S.A. Rommel. 2002. Trends in manatee mortality in Florida. Abstract. Manatee Population Ecology and Management Workshop, Gainesville, FL. April 1-4, 2002.

Deutsch, C.J., R.K. Bonde, and J.P. Reid. 1998. Radio-tracking manatees from land and space: tag design, implementation, and lessons learned from long-term study. Marine Technology Society Journal 32(1):18-29.

Deutsch, C.J., J.P. Reid, R.K. Bonde, D.E. Easton, H.I. Kochman, and T.J. O'Shea. 2003. Seasonal movements, migratory behavior and site fidelity of West Indian manatees along the Atlantic Coast of the United States. Wildlife Monographs 151:1-77.

Fertl, D., A.J. Schiro, G.T. Regan, C.A. Beck, N.M. Adimey, L. Price-May, A. Amos, G.A.J. Worthy and R. Crossland. 2005. Manatee occurrence in the Northern Gulf of Mexico, west of Florida. Gulf and Caribbean Research 17:69-74.

FWC. 2009. “Blue crab closed seasons approved to aid cleanups.” News release, dated February 5, 2009. 1 p.

FWC FWRI. 2009. Manatee Synoptic Surveys. St. Petersburg, FL, USA. Accessed March 15, 2009. Available from http://www.floridamarine.org/features/view_article.asp?id=15246.

FWC FWRI. 2007. Blue crab, Callinectes sapidus: species account for blue crab in Florida. BLUE CRAB, unpublished report. 8 pp.

FWC FWRI. 2008. Manatee Mortality Statistics. St. Petersburg, FL, USA. Accessed September 22, 2008. Available from http://www.floridamarine.org/features/category_sub.asp?id=2241.

Fonnesbeck, C.J, and Runge, M.C. 2007. Estimating the relative contribution of anthropogenic causes of death to Florida manatee (Trichechus manatus latirostris) mortality using Bayesian hierarchical modeling. Marine Mammal Science (In review).

Forrester, D.J., F.H. White, J.C. Woodard, and N.P. Thompson. 1975. Intussusception in a Florida manatee. Journal of Wildlife Diseases 11:566-569.

Hare, M.P. and J.G. Mead. 1987. Handbook for the determination of adverse human-marine mammal interactions from necropsies. Marine Mammal Program, National Museum of Natural History, Smithsonian Institution, Washington DC. NWAFC Process Report 87-06. 35 pp.

Hartley, W.C. 2006. FDEP Blue Springs State Park. Personal communication to Dawn Jennings, USFWS. Communication re: Highest winter count of manatees observed at Blue Springs State Park during the 2006-2007 winter season. Available from: USFWS Jacksonville Field Office, Jacksonville, FL 32256.

Hartman, D.S. 1979. Ecology and behavior of the manatee (Trichechus manatus) in Florida. American Society of Mammalogists Special Publication No. 5. 153 pp.

Higgs, K. 2007a. FWC Fish and Wildlife Research Institute. Personal communication to Jim Valade, USFWS. Unpublished Manatee Individual Photo-identification System (MIPS) data, number of manatees with entanglement-related scars, 1974 to 2007. Available from: USFWS Jacksonville Field Office, Jacksonville, FL 32256.

Higgs, K. 2007b. FWC Fish and Wildlife Research Institute. Personal communication to Dawn Jennings, USFWS. Unpublished Manatee Individual Photo-identification System (MIPS) data, records of identifiable manatees moving between management units, 1974 to 2007. Available from: USFWS Jacksonville Field Office, Jacksonville, FL 32256.

Kellogg, M.E. 2008. Sirenian conservation genetics and Florida manatee (Trichechus manatus latirostris) cytogenetics. Doctoral dissertation, University of Florida, Gainesville.

Kendall, W.L., C.A. Langtimm, C.A. Beck, and M.C. Runge. 2004. Capture-recapture analysis for estimating manatee reproductive rates. Marine Mammal Science 20(3):424-437.

Kleen, J.M. 2006. USFWS Crystal River National Wildlife Refuge. Personal communication to Dawn Jennings, USFWS. Communication re: highest winter count of manatees observed in Kings Bay and Crystal River, Citrus County, FL. Available from: USFWS Jacksonville Field Office, Jacksonville, FL 32256.

Koelsch, J.K., N.M. Adimey, and A.E. Bowles. 2003. Effects of the blue crab fishery on marine wildlife in Florida waters: Impacts and mitigation efforts. Abstract. Fifteenth Biennial Conference on the Biology of Marine Mammals, Greensboro, NC. December 14-19, 2003.

Koelsch, J.K. 2001. Reproduction in female manatees observed in Sarasota Bay, Florida. Marine Mammal Science 17(2):331-342.

Langtimm, C.A., C.A Beck, H.H. Edwards, B.B. Ackerman, K.J. Fick-Child, S.L. Barton, and W.C. Hartley. 2004. Survival estimates for Florida manatees from the photo-identification of individuals. Marine Mammal Science 20(3):438-463.

Lefebvre, L.W., M. Marmontel, J.P. Reid, G.B. Rathbun, and D.P. Domning. 2001. Status and biogeography of the West Indian manatee. Pages 425-474 in C.A. Woods and F.E. Sergile, editors. Biogeography of the West Indies: Patterns and Perspectives. CRC Press, Boca Raton, FL. 582 pp.

Lightsey, J.D., S.A. Rommel, A.M. Costidis, and T.D. Pitchford. 2006. Methods used during gross necropsy to determine watercraft-related mortality in the Florida manatee (Trichechus manatus latirostris). Journal of Zoo and Wildlife Medicine 37(3):262-275.

NMFS. 2005. Revisions to guidelines for assessing marine mammal stocks. Seattle, WA, USA. Accessed September 22, 2008. Available from: http://www.nmfs.noaa.gov/pr/pdfs/sars/gamms2005.pdf.

Nill, E.K. 1998. The Florida manatee (Trichechus manatus latirostris) entanglement report 1998. Final report to the U.S. Fish and Wildlife Service. 23 pp.

O'Shea, T.J., C.A. Beck, R.K. Bonde, H.I. Kochman, and D.K. Odell. 1985. An analysis of manatee mortality patterns in Florida 1976-1981. Journal of Wildlife Management 49(1):1-11.

Pitchford, T.D., S.A. Rommel, and M.E. Pitchford. 2005. Characterizing and interpreting watercraft-related wounds in Florida manatees: a retrospective analysis of Florida manatee mortality data for evidence of deaths attributable to (very) large vessels, 1990—1999. Final report to the U.S. Fish and Wildlife Service, Order No 401810M446. 60 pp.

Rathbun, G.B., R.K. Bonde, and D. Clay. 1982. The status of the West Indian manatee on the Atlantic Coast north of Florida. Pages 152-164 in R.R.Odum and J.W. Guthrie, editors. Proceedings: Symposium on Non-game and Endangered Wildlife. Technical Bulletin WL5. Georgia Department of Natural Resources, Game and Fish Division, Social Circle, GA.

Rathbun, G.B., J.P. Reid, and G. Carowan. 1990. Distribution and movement patterns of manatees (Trichechus manatus) in Northwestern peninsular Florida. Florida Marine Research Institute Publication No 48. 33 pp.

Read, A.J. and K.T. Murray. 2000. Gross evidence of human-induced mortality in small cetaceans. NOAA Technical Memorandum NMFS-OPR-15. 21 pp.

Reid, J.P., G.B. Rathbun, and J.R. Wilcox. 1991. Distribution patterns of individually identifiable West Indian manatees (Trichechus manatus) in Florida. Marine Mammal Science 7(2):180-190.

Rommel, S.A., A.M. Costidis, T.D. Pitchford, J.D. Lightsey, R.H. Snyder, and E.M. Haubold. 2007. Forensic methods for characterizing watercraft from watercraft-induced wounds on the Florida manatee (Trichechus manatus latirostris). Marine Mammal Science 23(1):110-132.

Runge M.C., C.A. Langtimm, and W.L. Kendall. 2004. A stage-based model of manatee population dynamics. Marine Mammal Science 20(3):361-385.

Runge M.C., C.A. Sanders-Reed, and C.J. Fonnesbeck. 2007a. A core stochastic population projection model for Florida manatees (Trichechus manatus latirostris). U.S. Geological Survey Open-File Report 2007-1082. 41 pp.

Runge M.C., C.A. Sanders-Reed, C.A. Langtimm, and C.J. Fonnesbeck. 2007b. A quantitative threats analysis for the Florida manatee (Trichechus manatus latirostris). Final report to U.S. Fish and Wildlife Service, Jacksonville, FL. Intergovernmental Contract No. 40181-5-N012 (March 2007). U.S. Geological Survey Open-File Report 2007-1086. 34 pp.

Schwartz, F.J. 1995. Florida manatees, Trichechus manatus (Sirenia: Trichechidae), in North Carolina 1919-1994. Brimleyana 22:53-60.

Smith, K.N. 1998. Summary of manatee fatalities associated with fishing practices or gear, 1974-1997. Unpublished report, Florida Department of Environmental Protection. 6 pp.

Smith, K.N. 1997. Summary of manatee fatalities associated with fishing practices or gear, 1974-1996. In: Resource Management Notes, Florida Department of Environmental Protection, Spring 1997, 9(1): 9—10.

Spellman, A.C., J.K. Koelsch, N.M. Adimey and L. Souto. 2003. Response to a clear and present danger. Abstract. Fifteenth Biennial Conference on the Biology of Marine Mammals, Greensboro, NC. December 14-19, 2003.

Spellman, A.C. 1999. Manatee entanglements in fishing gear and debris. Abstract. Thirteenth Biennial Conference on the Biology of Marine Mammals, Wailea, Maui, HA. November 28 to December 3, 1999.

Stith, B.M., D.H. Slone, and J.P. Reid. 2006. Review and synthesis of manatee data in Everglades National Park. Final Report for USGS/ENP Agreement # IA F5297-04-0119, November 2006. 110 pp.

Taylor, B.L., M. Scott, J.E. Heyning, and J. Barlow. 2003. Suggested guidelines for recovery factors for endangered marine mammals. NOAA Technical Memorandum NOAA-TM-NMFS-SWFSC-354. 9 pp.

USFWS Jacksonville Field Office. 2008a. Unpublished data (manatee sighting reports of manatees sighted outside of Florida). Available from: USFWS Jacksonville Field Office, Jacksonville, FL 32256.

USFWS Jacksonville Field Office. 2008b. Unpublished data from the Manatee Rescue, Rehabilitation, and Release Program database, 1974-2008, manatee rescues related to entanglements in and ingestion of marine debris. Available from: USFWS Jacksonville Field Office, Jacksonville, FL 32256.

USFWS Jacksonville Field Office. 2008c. Unpublished data (miscellaneous correspondence and notes regarding manatee entanglements in and ingestion of marine debris). Available from: USFWS Jacksonville Field Office, Jacksonville, FL 32256.

USFWS. 2007. 5-Year Review: Summary and Evaluation for the West Indian Manatee. Unpublished report. U.S. Fish and Wildlife Service, Jacksonville Field Office. Jacksonville, FL. 79 pp.

USFWS. 2001. Florida manatee (Trichechus manatus latirostris) recovery plan, third revision. USFWS. Atlanta, GA. 144 pp + appendices.

USGS FISC Sirenia Project. 2007. Unpublished Manatee Individual Photo-identification System (MIPS) data, number of manatees with entanglement-related scars. Available from: USFWS Jacksonville Field Office, Jacksonville, FL 32256.

Valade, J.A., G.D. Bossart, K. Frohlich, L.W. Lefebvre, A.A. Mignucci-Giannoni, D. Murphy, J. Pearson, and J.A. Powell. 1999. The manatee rescue, rehabilitation, and release program: an overview. Abstract. Thirteenth Biennial Conference on the Biology of Marine Mammals, Wailea, Maui, HA. November 28 to December 3, 1999.

Vianna, J.A., R.K. Bonde, S. Caballero, J.P. Giraldo, R.P. Lima, A. Clark, M. Marmontel, B. Morales-Vela, M.J. de Sousa, L. Parr, M.A. Rodriguez-Lopez, A.A. Mignucci-Giannonni, J .A. Powell, and F.R. Santos. 2006. Phylogeography, phylogeny, and hybridization in trichechid sirenians: implications for manatee conservation. Molecular Ecology 15:433-447.

Walsh, M.T. and G.D. Bossart. 1999. Manatee medicine. In: Zoo and Wildlife Medicine, Fowler, M.E. and Miller, R.E. eds., W.B. Saunders, Philadelphia, 507 516.

Weigle, B.L., I.E. Wright, M. Ross, and R.O. Flamm. 2001. Movements of radio-tagged manatees in Tampa Bay and along Florida's west coast, 1991-1996. Florida Marine Research Institute Technical Report TR-7. 156 pp.

Wright, S.D., B.B. Ackerman, R.K. Bonde, C.A. Beck and D.J. Banowetz. 1995. Analysis of watercraft-related mortality of manatees in Florida, 1979-1991. Pages 259-268 in T.J. O'Shea, B.B. Ackerman, and H.F. Percival, editors. Population Biology of the Florida Manatee. National Biological Service, Information and Technology Report No. 1. Washington DC.

Puerto Rico Manatee Stock:

Barrett, O.W. 1935. Notes concerning manatees and dugongs. J. Mammalogy 16:216-220.

Caribbean Stranding Network. 1988. Unpublished Data.

Department of Natural and Environmental Resources. 2004. Reglamento de Pesca de Puerto Rico. 36 pp.

Department of Natural and Environmental Resources. 2009. Manatee Stranding Reports May 2006 through November 2008. Unpublished Data.

Deutsch, C.J., Self-Sullivan, C. and Mignucci-Giannoni, A. 2007. Trichechus manatus ssp. manatus. In: IUCN 2007. 2007 IUCN Red List of Threatened Species 5pp

Domning, D.P. and L.C. Hayek. 1986. Interspecific and intraspecific morphological variation in manatees (Sirenia: Trichechus). Marine Mammal Sci. 2:87-144.

Erdman, D. S. 1970. Marine mammals from Puerto Rico to Antigua. J. Mamm. 51:636-639.

manatus) in Puerto Rico: 1988-1989. NTIS PB91-137240. Springfield, VA. 43 pp.

Evermann, B.W. 1900. General Report on the Investigations in Puerto Rico of the U.S. Fish Commission Steamer Fish Hawk in 1989. Bull. U.S. Fish Comm. 20: 3-302.

García-Rodríguez, A.I., Bowen, B.W., Domning, D., Mignucci-Giannoni, A.A., Marmotel, M., Montoya-Ospina, R.A., Morales-Vela, B., Ruding, M., Bonde, R.K., and P.M. McGuire. 1998. Phylogeography of the West Indian Manatee (Trichechus manatus): how many populations and how many taxa? Molecular Ecology 7: 1137-1149.

Hatt, R. 1934. A manatee collected by the American Museum Congo Expedition, with observations of recent manatees. Bulletin of the American Museum of Natural History 66: 533-566.

Lefebvre, L.W., M. Marmontel, J.P. Reid, G.B. Rathbun, and D.P. Domning. 2001. Status and biogeography of the West Indian manatee. Pages 425-474 in C.A. Woods and F.E. Sergile, editors. Biogeography of the West Indies: Patterns and Perspectives. CRC Press, Boca Raton, FL. 582 pp.

Lefebvre, L.W., T.J. O'Shea, G.B. Rathbun and R.C. Best. 1989. Distribution, status, and biogeography of the West Indian manatee. Biogeography of the West Indies, 1989: 567-610.

Magor, D.M. 1979. Survey of the Caribbean manatee (Trichechus manatus, L.) on Vieques Island, Puerto Rico. 9 p + appendices. Report to the Navy.

Matos-Caraballo, D. 2004. Comprehensive Census of Marine Fisheries of Puerto Rico. 2002. Final Report to NOAA. Department of Natural and Environmental Resources. p. 51-85.

Mignucci-Giannoni, A.A. 1989. Zoogeography of marine mammals in Puerto Rico and the Virgin Islands. Unpublished master's thesis, The University of Rhode Island, Kingston, RI.

Mignucci-Giannoni, A.A., B. Pinto-Rodriguez, R.A. Montoya-Ospina, D.P. Moore, and E.H. Williams. 1993. Stranding and mortality assessment of marine mammals in Puerto Rico and the Virgin Islands. Presented at the Tenth Biennial Conference on the Biology of Marine Mammals, Galveston, TX, 11-16 November.

Mignucci-Giannoni, A.A., M.M. Alsina Guerrero, V.M. Rosado, G.M. Toyos, and R.J. Rosario. 2003. Ecomap: Southwest Puerto Rico Endangered Marine Wildlife Conservation Project. Caribbean Stranding Network Report to EcoElectrica. 16 pp.

Mignucci-Giannoni, A.A., M.M. Alsina Guerrero, G.M. Toyos, and R.J. Rosario. 2004. Aerial Surveys for marine mammals and sea turtles off the southeast coast of Puerto Rico. Caribbean Stranding Network Report to EcoElectrica. 16 pp.

Mignucci Giannoni, A.A. 2006. West Indian manatee (Trichechus manatus) mortality analysis for Puerto Rico: 1990-2005. Caribbean Stranding Network. Unpublished Report.

NMFS. 2005. Revisions to Guidelines for Assessing Marine Mammal Stocks. Seattle, WA, USA. 24 pp. Available at: http://www.nmfs.noaa.gov/pr/pdfs/sars/gamms2005.pdf.

NOAA. 2004. Final Environmental Impact Statement for the Generic Essential Fish Habitats for the U.S. Caribbean Fisheries Management Plans.

Powell. J.A., D.W. Belitsky, and G.B. Rathbun. 1981. Status of the West Indian manatee (Trichechus manatus) in Puerto Rico. J. Mamm. 62: 642-646.

Rathbun, G.B., Carr, N., Carr, T., and C.A. Woods. 1985. The distribution of manatees and sea turtles in Puerto Rico, with emphasis on Roosevelt Roads Naval Station. NTIS PB 85-151847 AS. Springfield, VA. 83 pp.

Ray, C.E. 1960. The Manatee in the Lesser Antilles. J. Mammal. 41: 412-413.

Rice, S.M. 1990. Aerial Survey of West Indian Manatee Trichechus manatus. Unpub. Report. 19 pp.

Shoshani, J. 2005. Order Sirenia, pp. 92-93, in Mammal Species of the World: A taxonomic and geographic reference (D.E. Wilson and D.M. Reeder, eds.). John Hopkins University Press. 3rd. Edition (2142 pp.)

Teresa Tallevast. 2006. Culebra NWR Refuge Manager. Personal Communication.

U.S. Fish and Wildlife Service. 1986. Recovery plan for the Puerto Rico population of the West Indian manatee (Trichechus manatus manatus L.). Prepared by: G.B. Rathbun and E. Possardt for the U.S. Fish and Wildlife Service, Atlanta, GA. 28 pp.

U.S. Fish and Wildlife Service. 2007. West Indian Manatee. 5-year review: Summary and Evaluation. Jacksonville Ecological Services Office, Florida; Caribbean Field Office, Puerto Rico. 79 pp.

U.S. Fish and Wildlife Service. 2007. Unpublished Data.

Vianna, J.A., R.K, Bonde, J.P Caballero, J.P. Giraldo, R.P. Lima, A. Clark, M. Marmotel, B. Morales-Vela, M. J.de Sousa, L. Parr, M.A. Rodríguez-Lopez, A.A Mignucci-Giannoni, J.A. Powell, and F.R. Santos. 2006. Phyllogeography, phylogeny, and hybridization in trichechid sirenians: implications for manatee conservation. Molecular Ecology 15: 433-447.

Authority

The authority for this action is the Marine Mammal Protection Act of 1972, as amended (16 U.S.C. 1361 et al.).

Dated: June 3, 2009.
Marvin Moriarty,
Acting Director, Fish and Wildlife Service.

[FR Doc. E9-13799 Filed 6-11-09; 8:45 am]

BILLING CODE 4310-55-P